DEPARTMENT OF AGRICULTURE

Food Safety and Inspection Service

9 CFR Parts 317, 318, 319, 381

[Docket No. 97-036R]

Other Consumer Protection (OCP) Activities—Reopening of Comment Period

AGENCY: Food Safety and Inspection Service, USDA.

ACTION: Proposed rule; reopening of comment period.

SUMMARY: The Food Safety and Inspection Service (FSIS) is reopening the comment period for the advanced notice of proposed rulemaking “Other Consumer Protection (OCP) Activities” for 60 days. This action responds to a request to allow additional time for comments.

DATES: Comments must be received on or before August 29, 2000.

ADDRESSES: Submit one original and two copies of written comments to: FSIS Docket Clerk, Docket # 97-036R, Room 102, Cotton Annex Building, 300 12th Street, SW, Washington, DC 20250-3700. All comments received in response to this notice will be considered part of the public record and will be available for viewing in the FSIS Docket Room between 8:30 a.m. and 4:30 p.m., Monday through Friday. FSIS has made a technical paper available in the FSIS Docket Room and on the FSIS homepage (www.fsis.usda.gov).

FOR FURTHER INFORMATION CONTACT: Daniel Engeljohn, Director, Regulations Development and Analysis Division, Food Safety and Inspection Service, Washington, DC 20250-3700, at (202) 720-5627, fax number (202) 690-0486.

SUPPLEMENTARY INFORMATION: On March 17, 2000, FSIS published the advanced notice of proposed rulemaking (ANPR) “Other Consumer Protection (OCP) Activities” (65 FR 14486). FSIS published this ANPR to request comments on the need and desirability of revising its approach to verifying that meat and poultry products are not misbranded, economically adulterated, or otherwise unacceptable for reasons that do not necessarily raise food safety or public health concerns. In the ANPR, FSIS referred to these program activities as “other consumer protection” (OCP) activities. The ANPR defined and described FSIS' OCP activities and discussed the Agency's need for revised regulations and verification and enforcement procedures.

FSIS has received a request to extend the comment period for an additional 180 days because of the large scope of the ANPR. FSIS agrees that the ANPR addresses many issues and wants to receive as much input as possible. However, because this is an ANPR, and any further actions by the Agency will be issued in a notice and comment proposed rulemaking, FSIS is reopening the comment period for 60 days. After the comment period closes, FSIS, intends to proceed with development of various OCP notice and comment proposed rulemakings.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

Done at Washington, DC on: June 22, 2000.
Thomas J. Billy,
Administrator.

[FR Doc. 00-16520 Filed 6-29-00; 8:45 am]

BILLING CODE 3410-DM-P